DEPARTMENT OF HEALTH AND HUMAN SERVICES

Centers for Disease Control and Prevention

Notice of Award of a Sole Source Cooperative Agreement To Fund Northwestern Provincial Health Office in Zambia

AGENCY: Centers for Disease Control and Prevention (CDC), Department of Health and Human Services (HHS).

ACTION: Notice.

SUMMARY: The Centers for Disease Control and Prevention (CDC), located within the Department of Health and Human Services (HHS), announces the award of approximately $4,450,000, for Year 1 funding to Northwestern Provincial Health Office (NWPHO) in Zambia. The award will provide NWPHO with CDC Technical Assistance and financial support to maintain and sustain the province's overall oversight and quality assurance for the implementation of high-impact HIV combination prevention, treatment, and support services, including clinical, surveillance, and laboratory services as well as to identify and mitigate emerging disease threats for people living with HIV (PLHIV). Funding amounts for years 2-5 will be set at continuation.

DATES: The period for this award will be January 1, 2025, through September 29, 2029.

FOR FURTHER INFORMATION CONTACT: Vance Brown, Global Health Center, Centers for Disease Control and Prevention, 351 Independence Avenue, P.O Box 320065, Lusaka, Zambia, Telephone: +260-761-428-720, email: vhu7@cdc.gov.

SUPPLEMENTARY INFORMATION: The sole source award will support the Zambian Ministry of Health (MOH) to achieve and sustain HIV epidemic control gains by providing programmatic oversight, coordination, and direct service delivery in the provision of comprehensive HIV/TB prevention, treatment, and support services, while strengthening health systems for sustainability.

NWPHO is the only entity that can carry out this work, as it is the sole government institution with the mandate to support the health service delivery through capacity building, systems strengthening and oversight for HIV program implementation for the population of the Northwestern Province (NWP) of Zambia by the National Public Health Act of Zambia. NWPHO has been actively implementing PEPFAR programs through support provided by USG-awarded implementing partners funded by USAID. The government-to-government award is only possible to be executed with NWPHO as the registered sub-national provincial health authority in NWP Zambia.

Summary of the Award

Recipient: Northwestern Provincial Health Office (NWPHO).

Purpose of the Award: The purpose of this award is to provide NWPHO with CDC Technical Assistance and financial support to maintain and sustain the province's overall oversight and quality assurance for the implementation of high-impact HIV combination prevention, treatment, and support services, including clinical, surveillance, and laboratory services as well as to identify and mitigate emerging disease threats for PLHIV. The award aims to strengthen capacity development activities, while providing optimal health systems strengthening in support of continued and sustainable HIV epidemic control in Zambia.

Amount of Award: The approximate year 1 funding amount will be $4,450,000 in Federal Fiscal Year (FYY) 2025 funds, subject to the availability of funds. Funding amounts for years 2-5 will be set at continuation.

Authority: This program is authorized under Public Law 108-25 (the United States Leadership Against HIV AIDS, Tuberculosis and Malaria Act of 2003) [22 U.S.C. 7601, et seq.] and Public Law 110-293 (the Tom Lantos and Henry J. Hyde United States Global Leadership Against HIV/AIDS, Tuberculosis, and Malaria Reauthorization Act of 2008), and Public Law 113-56 (PEPFAR Stewardship and Oversight Act of 2013).

Period of Performance: January 1, 2025, through September 29, 2029.

Dated: September 4, 2024.
Terrance Perry,
Acting Director, Office of Grants Services, Centers for Disease Control and Prevention.

[FR Doc. 2024-20790 Filed 9-12-24; 8:45 am]

BILLING CODE 4163-18-P